DEPARTMENT OF TRANSPORTATION

Federal Aviation Administration

14 CFR Part 71

[Docket No. FAA-2023-2422; Airspace Docket No. 23-AWP-48]

RIN 2120-AA66

Modification of Class E Airspace; Bishop Airport, Bishop, CA

AGENCY: Federal Aviation Administration (FAA), DOT.

ACTION: Final rule.

SUMMARY: This action modifies the Class E airspace designated as a surface area, Class E airspace area designated as an extension to a Class D or Class E surface area, Class E airspace extending upward from 700 feet above the surface of the earth, and revokes the Class E airspace extending upward from 1,200 feet above the surface of the earth at Bishop Airport, Bishop, CA. These actions support the safety and management of instrument flight rules (IFR) operations at the airport.

DATES: Effective date 0901 UTC, December 26, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as will modify Class E airspace to support IFR operations at Bishop Airport, Bishop, CA.

History

The FAA published a notice of proposed rulemaking for Docket No. FAA-2023-2422 in the Federal Register (89 FR 33303; April 29, 2024), proposing to modify Class E airspace at Bishop Airport, Bishop, CA. Interested parties were invited to participate in this rulemaking effort by submitting written comments on the proposal to the FAA. No comments were received.

Incorporation by Reference

Class E2, E4, and E5 airspace areas are published in paragraphs 6002, 6004, and 6005, respectively, of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying the Class E airspace designated as a surface area, Class E airspace area designated as an extension to a Class E surface area, and Class E airspace extending upward from 700 feet above the surface of the earth. It also revokes Class E airspace extending upward from 1,200 feet above the surface of the earth at Bishop Airport, Bishop, CA.

The Class E airspace designated as a surface area is expanded to include that airspace within a 5-mile radius of the airport, within 1.8 miles northeast and 1 mile southwest of the 147° bearing from the airport, extending from the 5-mile radius to 6.9 miles southeast of the airport, and that airspace within 3.8 miles either side of the 317° bearing extending to the 7.1-mile radius of the airport. This will more appropriately contain arriving IFR operations between the surface and 1,000 feet above the surface while executing the Area Navigation (RNAV) (Global Positioning System [GPS]) M Runway (RWY) 12 and the RNAV (GPS) M RWY 30 approaches. It will also better contain departing IFR operations until reaching the base of adjacent controlled airspace while executing the MOTSE ONE DEPARTURE (RNAV).

The Class E airspace area designated as an extension to a Class D or Class E surface area is reduced to be within 1.2 miles east and 1.1 miles west of the airport's 337° bearing extending from the 7.1-mile radius of the airport to 9.6 miles northwest of the airport. This will more appropriately contain arriving IFR operations below 1,000 feet above the surface while executing the Localizer Directional Aid (LDA) RWY 17 approach.

The Class E airspace area extending upward from 700 feet above the surface of the earth is reduced to include that airspace within 3.4 miles northeast and 4 miles southwest of the airport's 157° bearing extending 7.6 miles southeast of the airport, and 4 miles southwest and 3.4 miles northeast of the airport's 337° bearing extending 15.2 miles northwest of the airport. This will better contain arriving IFR operations below 1,500 feet above the surface while executing the RNAV (GPS) M RWY 12 and RNAV (GPS) M RWY 30 approaches. The modification will also more appropriately contain departing IFR operations below 1,200 feet above the surface when executing the MOTSE ONE DEPARTURE (RNAV).

The Class E airspace extending upward from 1,200 feet above the surface is revoked, as the area is already within the Coaldale and Los Angeles Class E en route domestic airspace areas.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11H, Airspace Designations and Reporting Points, dated August 11, 2023, and effective September 15, 2023, is amended as follows:

Paragraph 6002 Class E Airspace Areas Designated as Surface Areas.

* * * * *

AWP CA E2 Bishop, CA [Amended]

Bishop Airport, CA

(Lat. 37°22′23″ N, long. 118°21′49″ W)

That airspace extending upwards from the surface within a 5-mile radius of the airport, within 1.8 miles northeast and 1 mile southwest of the airport's 147° bearing extending to 6.9 miles southeast, and within 3.8 miles either side of the airport's 317° bearing extending to the 7.1-mile radius of the airport.

* * * * *

Paragraph 6004 Class E Airspace Areas Designated as an Extension to a Class D or Class E Surface Area.

* * * * *

AWP CA E4 Bishop, CA [Amended]

Bishop Airport, CA

(Lat. 37°22′23″ N, long. 118°21′49″ W)

That airspace extending upward from the surface within 1.2 miles east and 1.1 miles west of the airport's 337° bearing extending from the 7.1-mile radius of the airport to 9.6 miles northwest of the airport.

* * * * *

Paragraph 6005 Class E Airspace Areas Extending Upward From 700 Feet or More Above the Surface of the Earth.

* * * * *

AWP CA E5 Bishop, CA [Amended]

Bishop Airport, CA

(Lat. 37°22′23″ N, long. 118°21′49″ W)

That airspace extending upward from 700 feet above the surface within 3.4 miles northeast and 4 miles southwest of the airport's 157° bearing extending 7.6 miles southeast of the airport, and within 3.4 miles northeast and 4 miles southwest of the airport's 337° bearing extending 15.2 miles northwest of the airport.

* * * * *

Issued in Des Moines, Washington, on August 12, 2024.
B.G. Chew,
Group Manager, Operations Support Group, Western Service Center.

[FR Doc. 2024-18601 Filed 8-20-24; 8:45 am]

BILLING CODE 4910-13-P